DEPARTMENT OF VETERANS AFFAIRS

Veterans Benefits Administration

[OMB Control No. 2900-New (Fiduciary)]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before January 4, 2006.

FOR FURTHER INFORMATION OR A COPY OF THE SUBMISSION CONTACT: Denise McLamb, Records Management Service (005E3), Department of Veterans Affairs, 810 Vermont Avenue, NW., Washington, DC 20420, (202) 565-8374, FAX (202) 565-6590. Please refer to “OMB Control No. 2900-New (Fiduciary).”

Send comments and recommendations concerning any aspect of the information collection to VA's OMB Desk Officer, OMB Human Resources and Housing Branch, New Executive Office Building, Room 10235, Washington, DC 20503, (202) 395-7316. Please refer to “OMB Control No. 2900-New (Fiduciary)” in any correspondence.

SUPPLEMENTARY INFORMATION: Title: Fiduciary Statement in Support of Appointment, VA form 21-0792.

Type of Review: New collection.

Abstract: Individual's seeking appointment as a fiduciary of VA beneficiaries complete VA Form 21-0792. VA uses the data collected to determine the individual's qualification as a fiduciary.

An agency may not conduct or sponsor, and a person is not required to respond to a collection of information unless it displays a currently valid OMB control number. The Federal Register Notice with a 60-day comment period soliciting comments on this collection of information was published on September 12, 2005, at page 53834.

Affected Public: Individuals or Households.

Estimated Annual Burden: 1,875 hours.

Estimated Average Burden Per Respondent: 15 minutes.

Frequency of Response: One time.

Estimated Number of Respondents: 7,500.

Dated: November 21, 2005.
By direction of the Secretary.
Denise McLamb,
Program Analyst, Records Management Service.

[FR Doc. E5-6796 Filed 12-2-05; 8:45 am]

BILLING CODE 8320-01-P